NUCLEAR REGULATORY COMMISSION

[Docket No. 50-331; NRC-2020-0148]

NextEra Energy Duane Arnold, LLC; Duane Arnold Energy Center; Post-Shutdown Decommissioning Activities Report

AGENCY: Nuclear Regulatory Commission.

ACTION: Public meetings and request for comment.

SUMMARY: On June 19, 2020, the U.S. Nuclear Regulatory Commission (NRC) solicited comments on the post-shutdown decommissioning activities report (PSDAR) for the Duane Arnold Energy Center (DAEC). The PSDAR, which includes the site-specific decommissioning cost estimate (DCE), provides an overview of NextEra Energy Duane Arnold, LLC's planned decommissioning activities, schedule, projected costs, and environmental impacts for DAEC. The NRC will hold an in-person as well as a virtual public meeting to discuss the DAEC PSDAR and DCE and to receive comments.

DATES: The in-person public meeting will be held on Tuesday, September 28, 2021, from 6:00 p.m. until 9:00 p.m. (CT) (7:00 p.m. until 10:00 p.m. ET), at the Palo Community Center, located at 2800 Hollenbeck Road, in Palo, Iowa. The virtual meeting will occur during the week of October 4, 2021; additional details for the virtual meeting will be provided on the NRC's public meeting website. Comments are due by December 20, 2021. Comments received after this date will be considered, if it is practical to do so, but the Commission is able to ensure consideration only for comments received on or before this date.

ADDRESSES: You may submit comments by any of the following methods; however, the NRC encourages electronic comment submission through the Federal Rulemaking website:

• Federal Rulemaking Website: Go to https://www.regulations.gov and search for Docket ID NRC-2020-0148. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kim Conway, Office of Nuclear Material Safety and Safeguards, U.S. Nuclear Regulatory Commission, Washington, DC 20555-0001, telephone: 301-415-1335; email: Kimberly.Conway@nrc.gov.

SUPPLEMENTARY INFORMATION:

I. Obtaining Information and Submitting Comments

A. Obtaining Information

Please refer to Docket ID NRC-2020-0148 when contacting the NRC about the availability of information for this action. You may obtain publicly available information related to this action by any of the following methods:

• Federal Rulemaking Website: Go to https://www.regulations.gov and search for Docket ID NRC-2020-0148.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking Website (https://www.regulations.gov). Please include Docket ID NRC-2020-0148 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Paragraph 50.82(a)(4)(i) of title 10 of the Code of Federal Regulations (10 CFR) states that a PSDAR must contain a description of the planned decommissioning activities along with a schedule for their accomplishment, a discussion that provides the reasons for concluding that the environmental impacts associated with site-specific decommissioning activities will be bounded by appropriate previously issued environmental impact statements, and a site-specific DCE, including the projected cost of managing irradiated fuel.

Accordingly, pursuant to 10 CFR 50.82(a)(4)(ii), the NRC noticed receipt of the DAEC PSDAR, including the DCE, and made it available for public comment on June 19, 2020 (85 FR 37116). The PSDAR, dated April 2, 2020, is available at ADAMS Accession No. ML20094F603. The purpose of the original Federal Register notice (85 FR 37116; June 19, 2020) was to inform the public of a meeting to discuss and accept comments on the PSDAR and DCE. The public comment period closed on October 19, 2020, but was reopened on October 26, 2020 (85 FR 67780), to account for the restrictions associated with the Coronavirus Disease 2019 public health emergency. The DAEC PSDAR was supplemented on February 5, 2021; the updated version is available at ADAMS Accession No. ML21036A160. The public comment period closed again on February 19, 2021, was reopened on March 5, 2021 (86 FR 12990), and extended again on August 9, 2021 (86 FR 43570). The DAEC PSDAR public comment period will currently close on December 20, 2021.

III. Request for Comment and Public Meetings

The NRC will hold an in-person public meeting to discuss the DAEC PSDAR and receive comments on Tuesday, September 28, 2021, from 6:00 p.m. until 9:00 p.m. (CT), at the Palo Community Center, located at 2800 Hollenbeck Road, in Palo, Iowa. The virtual public meeting will occur during the week of October 4, 2021, and will be noticed separately with details provided on the NRC's public meeting website at https://www.nrc.gov/pmns/mtg.

The NRC is continuing to closely monitor the Coronavirus Disease 2019 public health emergency and will make changes or cancellations to these meetings as necessary to protect public health and safety. The most current information for both the planned DAEC PSDAR meetings will be available on the NRC's public meeting website previously referenced, or by contacting the individual listed in the FOR FURTHER INFORMATION CONTACT section of this document. The NRC requests that comments that are not provided during the meetings be submitted in writing, as noted in section I, “Obtaining Information and Submitting Comments,” of this document, by December 20, 2021.

Dated: September 2, 2021.
For the Nuclear Regulatory Commission.
Bruce A. Watson,
Chief, Reactor Decommissioning Branch, Division of Decommissioning, Uranium Recovery, and Waste Programs, Office of Nuclear Material Safety and Safeguards.

[FR Doc. 2021-19417 Filed 9-8-21; 8:45 am]

BILLING CODE 7590-01-P